DEPARTMENT OF VETERANS AFFAIRS

[OMB Control No. 2900-0094]

Agency Information Collection Activity Under OMB Review: Supplement to VA Forms (For Philippine Claims)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before January 5, 2018.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0094” in any correspondence.

FOR FURTHER INFORMATION CONTACT: Cynthia Harvey-Pryor, Enterprise Records Service (005R1B), Department of Veterans Affairs, 811 Vermont Avenue NW., Washington, DC 20420, (202) 461-5870 or email cynthia.harvey-pryor@va.gov. Please refer to “OMB Control No. 2900-0094” in any correspondence.

SUPPLEMENTARY INFORMATION:

Authority: 44 U.S.C. 3501-21.

Title: Supplement to VA Forms 21-526, 21P-534, and 21P-535 (for Philippine Claims) (VA Form 21-4169).

OMB Control Number: 2900-0094.

Type of Review: Extension of a currently approved collection.

Abstract: VA Form 21-4169 is used to gather the necessary information to determine whether a claimant's service qualifies as service in the Commonwealth Army of the Philippines or recognized guerrilla organization. The form is used for the sole purpose of collecting the information, proof of service, place of residence, and membership in pro-Japanese, pro-German, or anti-American Filipino organization.

An agency may not conduct or sponsor, and a person is not required to respond to a collection of information unless it displays a currently valid OMB control number. The Federal Register Notice with a 60-day comment period soliciting comments on this collection of information was published at 82 FR 186 on September 27, 2017, page 45114.

Affected Public: Individuals or Households.

Estimated Annual Burden: 250 hours.

Estimated Average Burden per Respondent: 15 minutes.

Frequency of Response: One time.

Estimated Number of Respondents: 1,000.

By direction of the Secretary.
Cynthia Harvey-Pryor,
Department Clearance Officer, Office of Quality, Privacy and Risk, Department of Veterans Affairs.

[FR Doc. 2017-26251 Filed 12-5-17; 8:45 am]

BILLING CODE 8320-01-P